DEPARTMENT OF TRANSPORTATION

Federal Aviation Administration

14 CFR Part 25

[Docket No. FAA-2014-0078; Special Conditions No. 25-543-SC]

Special Conditions: Embraer S.A. Model ERJ-170 Airplanes; Seats With Large, Non-Traditional, Non-Metallic Panels

AGENCY: Federal Aviation Administration (FAA), DOT.

ACTION: Final special conditions; request for comments; correction.

SUMMARY: This document corrects an error that appeared in Federal Docket no. FAA-2014-0078, Special Conditions no. 25-543-SC, which was published in the Federal Register on March 3, 2014 (79 FR 11679). The error is in the type-certificate number referenced in the Background and Type Certification Basis sections of the special conditions. It is being corrected herein.

DATES: The effective date of this correction is March 17, 2017

FOR FURTHER INFORMATION CONTACT: Jayson Claar, FAA, Airframe and Cabin Safety Branch, ANM-111, Transport Airplane Directorate, Aircraft Certification Service, 1601 Lind Avenue SW., Renton, Washington 98057-3356; telephone 425-227-2194; facsimile 425-227-1149.

SUPPLEMENTARY INFORMATION:

Background

Special Conditions no. 25-543-SC was published in the Federal Register on March 3, 2014 (79 FR 11679). The document issued special conditions pertaining to seats with large, non-traditional, non-metallic panels.

As published, the document contained four errors, each referring to the type-certificate number for the Embraer S.A. Model ERJ-170 airplane.

Because no other part of the regulatory information has been changed, the special conditions document is not being re-published.

Correction

In the Final Special Conditions, Request for Comments document [FR Doc. 2014-04559 Filed 2-28-14; 8:45 a.m.] published on March 3, 2014 (79 FR 11679), make the following correction:

On page 11679, column 3, in the first and second paragraphs of the Background section; and on page 11680, column 1, in the first paragraph of the Type Certification Basis section, change “A57NM” to “A56NM.”

Issued in Renton, Washington on February 10, 2017.
Michael Kaszycki,
Assistant Manager, Transport Airplane Directorate, Aircraft Certification Service.

[FR Doc. 2017-05328 Filed 3-16-17; 8:45 am]

BILLING CODE 4910-13-P